DEPARTMENT OF HEALTH AND HUMAN SERVICES

National Institutes of Health

Proposed Collection; 60-Day Comment Request; The Study of Center of Global Health's (CGH) Workshops (NCI)

Summary: In compliance with the requirement of Section 3506(c)(2)(A) of the Paperwork Reduction Act of 1995, for opportunity for public comment on proposed data collection projects, the National Cancer Institute, the National Institutes of Health (NIH) will publish periodic summaries of proposed projects to be submitted to the Office of Management and Budget (OMB) for review and approval.

Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) The quality, utility, and clarity of the information to be collected; and (4) Minimize the burden of the collection of information on those who are to respond, including the use of appropriate automated, electronic, mechanical, or other technological collection techniques or other forms of information technology.

To Submit Comments and for Further Information: To obtain a copy of the data collection plans and instruments, submit comments in writing, or request more information on the proposed project, contact: Sudha Sivaram, Program Director, Center for Global Health, 9609 Medical Center Drive, RM 3W528 Rockville, MD, 20850 or call non-toll-free number (240) 276-5810 or Email your request, including your address to: sudha.sivaram@nih.gov. Formal requests for additional plans and instruments must be requested in writing.

Comment Due Date: Comments regarding this information collection are best assured of having their full effect if received within 60 days of the date of this publication.

Proposed Collection: The Study of the Center of Global Health's (CGH) Workshops (NCI), 0925-0722, Expiration Date 06/30/2018, REVISION, National Cancer Institute (NCI), National Institutes of Health (NIH).

Need and Use of Information Collection: The purpose of this study is to collect stakeholder feedback from past and future workshops; to assess the effectiveness of the Center of Global Health (CGH) workshops, which seek to assess abilities of the workshop attendees and respective countries to implement national cancer control programs; inform content and improve delivery of future workshops, and to systematically assess CGH's contribution. The workshops to be studied are the Symposiums on Global Cancer Research, Workshops in Cancer Control Planning and Implementation, the Summer Curriculum in Cancer Prevention, Women's Cancer Program Summit, Regional Grant Writing and Peer Review Workshops, and Workshops on Tobacco Control. While these workshops differ in content and delivery style, their underlying goals are the same; they intend to initiate and enhance cancer control efforts, increase capacity for cancer research, foster new partnerships, and create research and cancer control networks. The proposed study requests information about the outcomes of each of these workshops including (1) new cancer research partnerships and networks (2) cancer control partnerships and networks, (3) effects on cancer research, and (4) effect on cancer control planning and implementation efforts. Information will be collected in two phases where Phase 1 will collect information from attendees of past workshops (1998-2015) and Phase 2 will collect information from attendees of future workshops over the next three years. The surveys will enable CGH to better understand the impact the workshops have had on their partnerships and networks, research, and cancer control planning and implementation efforts.

OMB approval is requested for 3 years. There are no costs to respondents other than their time. The total estimated annualized burden hours are 941.

Estimated Annualized Burden Hours
Type of respondents | Form name | Number of respondents per year | Number of responses per respondent | Average burden per response (in hours) | Total annual burden hours
Chief Executives, Medical Scientists, Health Educators, Family/General Practitioners, Registered Nurses, Medical and Health Services Managers | Phase 1: Symposium on Global Cancer Research Phase 2: Symposium on Global Cancer Research | 500 250 | 1 1 | 20/60 20/60 | 167 84
| Phase 1: Workshop in Cancer Control Planning and Implementation for non-Ministry of Health participants | 70 | 1 | 20/60 | 23
| Phase 2: Workshop in Cancer Control Planning and Implementation for non-Ministry of Health participants | 70 | 1 | 20/60 | 23
| Phase 1: Workshop in Cancer Control Planning and Implementation for Ministry of Health | 70 | 1 | 20/60 | 23
| Phase 2: Workshop in Cancer Control Planning and Implementation for Ministry of Health | 70 | 1 | 20/60 | 23
| Phase 1: Summer Curriculum in Cancer Prevention (Attach 3D) | 500 | 1 | 30/60 | 250
| Phase 2: Summer Curriculum in Cancer Prevention | 27 | 1 | 30/60 | 14
| Phase 1: Women's Cancer Program Summit | 140 | 1 | 20/60 | 47
| Phase 2: Women's Cancer Program Summit | 140 | 1 | 20/60 | 47
| Phase 1: Regional Grant Writing and Peer Review Workshop | 150 | 1 | 30/60 | 75
| Phase 2: Regional Grant Writing and Peer Review Workshop | 60 | 1 | 30/60 | 30
| Phase 1: Workshops on Tobacco Control | 180 | 1 | 30/60 | 90
| Phase 2: Workshops on Tobacco Control | 90 | 1 | 30/60 | 45
Totals |  | 2,317 | 2,317 |  | 941

Dated: February 10, 2016.
Karla Bailey,
Project Clearance Liaison, National Cancer Institute, NIH.

[FR Doc. 2016-04363 Filed 2-29-16; 8:45 am]

BILLING CODE 4140-01-P